DEPARTMENT OF JUSTICE

Notice of Lodging of Consent Decree Under the Clean Air Act

Under 28 CFR 50.7, notice is hereby given that on May 17, 2010 a Consent Decree in United States of America and Allegheny County Health Department v. Allegheny Ludlum Corporation, Civil Action No. 10-0673 was lodged with the United States District Court for the Western District of Pennsylvania.

In a complaint that was filed simultaneously with the Consent Decree, the United States and the Allegheny County Health Department (“ACHD”) sought injunctive relief and penalties against Allegheny Ludlum Corporation (“ALC”) pursuant to Section 113(b) of the Clean Air Act, 42 U.S.C. 7413(b), for alleged Clean Air Act violations and violations of the Pennsylvania State Implementation Plan at a steel manufacturing facility in Natrona, Pennsylvania owned by ALC.

Under the terms of the settlement, the settling defendant will: (1) Cease operation of the Natrona steel manufacturing facility not later than November 30, 2010; (2) pay a $1.6 million civil penalty for settlement of the claims in the complaint; and (3) apply interim measures to control visible air emissions, until the Natrona facility finally ceases operation.

The Department of Justice will receive comments relating to the Consent Decree for a period of thirty (30) days from the date of this publication. Comments should be addressed to the Assistant Attorney General, Environment and Natural Resources Division, P.O. Box 7611, U.S. Department of Justice, Washington, DC 20044-7611, or submitted via e-mail to pubcomment-ees.enrd@usdoj.gov, and should refer to United States and the Allegheny County Health Department v. Allegheny Ludlum Corporation, D.J. Ref. No. 90-5-2-1-09378/1.

The Consent Decree may be examined at the Offices of the U.S. Environmental Protection Agency, Region 3, 1650 Arch Street, Philadelphia, Pennsylvania 19103. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $7.50 (25 cents per page reproduction cost) payable to the U.S. Treasury.

Maureen Katz,
Assistant Section Chief, Environmental Enforcement Section, Environment and Natural Resources Division.

[FR Doc. 2010-12582 Filed 5-25-10; 8:45 am]

BILLING CODE 4410-15-P